DEPARTMENT OF THE TREASURY

Submission for OMB Review; Comment Request

June 22, 2010.

The Department of Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 29, 2010 to be assured of consideration.

Bureau of Public Debt (BPD)

OMB Number: 1535-0121.

Type of Review: Extension without change of a currently approved collection.

Title: U.S. Treasury Securities State and Local Government Series Early Redemption Request.

Form: PD-F-5377.

Abstract: Used for early redemption of State and Local Government Series Securities.

Respondents: State, Local, and Tribal Governments.

Estimated Total Burden Hours: 247 hours.

OMB Number: 1535-0131.

Type of Review: Extension without change of a currently approved collection.

Title: Application for Disposition of Series I Savings Bonds after the Death of the registered owner(s).

Form: PDF 5394.

Abstract: Used to distribute Series I savings bonds after the death of the registered owner(s).

Respondents: Individuals or Households.

Estimated Total Burden Hours: 2,050 hours.

OMB Number: 1535-0094.

Type of Review: Extension without change of a currently approved collection.

Title: Regulations Governing Payments by the Automated Clearing House Method on Account of United States Securities.

Abstract: The information is needed in order to make payments to investors in United States Securities by the Automated Clearing House (ACH) method.

Respondents: Individuals or Households.

Estimated Total Burden Hours: 1 hour.

OMB Number: 1535-0095.

Type of Review: Extension without change of a currently approved collection.

Title: Regulations Governing United States Savings Bonds Series E/EE and H/HH.

Abstract: The regulations mandate the payment of H/HH interest by Direct Deposit (ACH method).

Respondents: Individuals or Households.

Estimated Total Burden Hours: 1 hour.

Clearance Officer: Bruce Sharp, Bureau of the Public Debt, 200 Third Street, Parkersburg, West Virginia, 26106; (304) 480-8112.

OMB Reviewer: Shagufta Ahmed, Office of Management and Budget, New Executive Office Building, Room 10235, Washington, DC 20503; (202) 395-7873.

Celina Elphage,
Treasury PRA Clearance Officer.

[FR Doc. 2010-15685 Filed 6-28-10; 8:45 am]

BILLING CODE 4810-39-P